OVERSEAS PRIVATE INVESTMENT CORPORATION

Sunshine Notice—June 12, 2014 Board of Directors Meeting

TIME AND DATE: Thursday, June 12, 2014, 10:30 a.m. (OPEN Portion)

10:45 a.m. (CLOSED Portion)

PLACE: Offices of the Corporation, Twelfth Floor Board Room, 1100 New York Avenue NW., Washington, DC.

STATUS: Meeting OPEN to the Public from 10:30 a.m. to 10:45 a.m.

Closed portion will commence at 10:45 a.m. (approx.)

MATTERS TO BE CONSIDERED:

1. President's Report.

2. Approval—Amended Audit Committee Charter.

3. Minutes of the Open Session of the March 20, 2014 Board of Directors Meeting.

FURTHER MATTERS TO BE CONSIDERED (Closed to the Public 10:45 a.m.):

1. Finance Project—Nigeria.

2. Finance Project—Colombia.

3. Finance Project—Mexico.

4. Finance Project—Mexico.

5. Finance Project—Turkey.

6. Finance Project—Chile.

7. Finance Project—Pakistan.

8. Finance Project—Panama.

9. Finance Project—Sub-Saharan Africa.

10. Finance Project—Latin/Central America.

11. Finance Project—Brazil.

12. Finance Project—South and Southeast Asia.

13. Finance Project—India.

14. Finance Project—Central and Eastern Europe.

15. Finance Project—Sub-Saharan Africa.

16. Minutes of the Closed Session of the March 20, 2014 Board of Directors Meeting.

17. Reports.

18. Pending Projects.

CONTACT PERSON FOR INFORMATION: Information on the meeting may be obtained from Connie M. Downs at (202) 336-8438.

Dated: May 28, 2014.
Connie M. Downs,
Corporate Secretary, Overseas Private Investment Corporation.

[FR Doc. 2014-12765 Filed 5-29-14; 11:15 am]

BILLING CODE 3195-01-P